DEPARTMENT OF THE TREASURY

Agency Information Collection Activities; Submission for OMB Review; Comment Request; Treasury Foreign Currency (TFC) Forms FC-1, FC-2 & FC-3

AGENCY: Departmental Offices, Department of the Treasury.

ACTION: Notice of information collection; request for comment.

SUMMARY: The Department of the Treasury will submit the following information collection request to the Office of Management and Budget (OMB) for review and clearance in accordance with the Paperwork Reduction Act of 1995, on or after the date of publication of this notice. The public is invited to submit comments on this request.

DATES: Comments should be received on or before April 26, 2024 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION: Title: Treasury Foreign Currency (TFC) Forms FC-1, FC-2 & FC-3.

OMB Control Number: 1505-0010.

Type of Review: Extension without change of a currently approved collection.

Description: Completion of Foreign Currency Forms FC-1, FC-2, and FC-3, to be filed by major market participants, is required under Title II of Public Law 93-110 (87 Stat. 352, 31 U.S.C. 5315), and implementing regulations.

The data collected on Foreign Currency Forms FC-1, FC-2 and FC-3 are used in connection with supplemental information from other sources to better understand the sources and nature of mobile capital flows which can have a significant impact on the functioning of the international monetary system. Aggregate data from these forms are published quarterly in the “Foreign Currency Positions” section of the Treasury Bulletin. Data reported by individual firms may be made available to other Federal agencies and to the Federal Reserve District Banks. Data are made available to the Federal Reserve System for analysis of market forces to aid in the formulation and implementation of U.S. monetary policy and operations in foreign exchange markets. In addition, data reported by individual banks may be made available to the Federal Reserve Board insofar as authorized by Section 11(a) of the Federal Reserve Act, as amended (12 U.S.C. 248(a)(2)).

Form: FC-1, FC-2 and FC-3.

Affected Public: Businesses or other for-profits.

Estimated Number of Respondents: Form FC-1: 29 respondents. Form FC-2: 29 respondents. Form FC-3: 48 respondents.

Frequency of Response: Form FC-1: Weekly. Form FC-2: Monthly. Form FC-3: Quarterly.

Estimated Total Number of Annual Responses: 2,048.

Estimated Time per Response: Form FC-1: 48 minutes (0.8 hours). Form FC-2: 3 hours, 36 minutes (3.6 hours). Form FC-3: 8 hours.

Estimated Total Annual Burden Hours: 3,995.

Authority: 44 U.S.C. 3501 et seq.

Spencer W. Clark,
Treasury PRA Clearance Officer.

[FR Doc. 2024-06467 Filed 3-26-24; 8:45 am]

BILLING CODE 4810-AK-P